DEPARTMENT OF HOMELAND SECURITY

Federal Emergency Management Agency

44 CFR Part 65

Docket ID FEMA-2008-0020; Internal Agency Docket No. FEMA-B-1067]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the FEMA Assistant Administrator for Mitigation reconsider the changes. The modified BFEs may be changed during the 90-day period.

ADDRESSES: The modified BFEs for each community are available for inspection at the office of the Chief Executive Officer of each community. The respective addresses are listed in the table below.

FOR FURTHER INFORMATION CONTACT: Kevin C. Long, Engineering Management Branch, Mitigation Directorate, Federal Emergency Management Agency, 500 C Street SW., Washington, DC 20472, (202) 646-2820.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modication | Community No.
Alabama: Shelby | City of Montevallo (08-04-6211P) | June 11, 2009; June 18, 2009; The Birmingham News | The Honorable Ben McCrory, Mayor, City of Montevallo, 545 Main Street, Montevallo, AL 35115 | October 16, 2009 | 010349
California:
San Bernardino | City of Redlands (09-09-0076P) | June 11, 2009; June 18, 2009; Redlands Daily Facts | The Honorable Jon Harrison, Mayor, City of Redlands, 35 Cajon Street, Suite 200, Redlands, CA 92373 | May 29, 2009 | 060279
San Diego | City of San Diego (09-09-0194P) | June 10, 2009; June 17, 2009; San Diego Transcript | The Honorable Jerry Sanders, Mayor, San Diego County, 202 C Street, 11th Floor, San Diego, CA 92101 | October 15, 2009 | 060295
San Diego | Unincorporated areas of San Diego County (09-09-0374P) | June 17, 2009; June 24, 2009; San Diego Transcript | The Honorable Dianne Jacob, Chairwoman, San Diego County Board of Supervisors, 1600 Pacific Highway, Room 335, San Diego, CA 92101 | October 22, 2009 | 060284
Ventura | City of Oxnard (09-09-1399P) | June 11, 2009; June 18, 2009; Ventura Star | The Honorable Thomas Holden, Mayor, City of Oxnard, 300 West 3rd Street, Oxnard, CA 93030 | May 29, 2009 | 060417
Colorado: Adams & Arapahoe | City of Aurora (09-08-0361P) | June 11, 2009; June 18, 2009; Aurora Sentinel | The Honorable Ed Tauer, Mayor, City of Aurora, 15151 East Alameda Parkway, Aurora, CO 80012 | October 16, 2009 | 080002
Connecticut:
Hartford | Town of Farmington (09-01-0125P) | March 23, 2009; March 30, 2009; The Hartford Courant | The Honorable Michael Clark, Chair, Town of Farmington Council, 1 Monteith Drive, Farmington, CT 06032 | July 28, 2009 | 090029
New Haven | Town of Branford (09-01-0507P) | June 11, 2009; June 18, 2009; Branford Sound | The Honorable Anthony DaRos, First Selectman, Town of Branford, P.O. Box 150, Branford, CT 06405 | May 29, 2009 | 090073
Colorado:
Douglas | Unincorporated areas of Douglas County (09-08-0431P) | May 21, 2009; May 28, 2009; Douglas County News Press | The Honorable Jack Hilbert, Chairman, Douglas County Board of Commissioners, 100 3rd Street, Castle Rock, CO 80104 | September 25, 2009 | 080049
Douglas | Town of Parker (09-08-0431P) | May 21, 2009; May 28, 2009; Douglas County News Press | The Honorable David Casiano. Mayor, Town of Parker, 20120 East Main Street, Parker, CO 80138 | September 25, 2009 | 080310
Summit | Town of Silverthorne (08-08-0785P) | June 5, 2009; June 12, 2009; Summit County Journal | The Honorable David Koop, Mayor, Town of Silverthorne, P.O. Box 1309, Silverthorne, CO 80498 | May 22, 2009 | 080201
Delaware: New Castle | Unincorporated areas of New Castle County (09-03-0923P) | June 9, 2009; June 16, 2009; The News Journal | Mr. Christopher Coons, County Executive, New Castle County, 87 Reads Way Corporate Commons, New Castle, DE 19720 | October 13, 2009 | 105085
Florida: Lee | Unincorporated areas of Lee County (09-04-3111P) | June 8, 2009; June 15, 2009; Fort Myers News-Press | The Honorable Ray Judah, Chairman, Lee County, Board of Commissioners, Post Office Box 398, Fort Myers, FL 33902 | May 27, 2009 | 125124
Georgia: | Columbia | Unincorporated areas of Columbia County (09-04-2902P) | June 14, 2009; June 21, 2009; Columbia County News Times | The Honorable Ron C. Cross, Chairman, Columbia County Board of Commissioners, P.O. Box 498, Evans, GA 30809 | May 29, 2009 | 130059
Columbia | City of Grovetown (09-04-2902P) | June 14, 2009; June 21, 2009; Columbia County News Times | The Honorable George W. James III, Mayor, City of Grovetown, 201 Williams Street, Grovetown, GA 30813 | May 29, 2009 | 130265
Idaho: Canyon | Unincorporated areas of Canyon County (08-10-0685P) | May 11, 2009; May 18, 2009; Idaho Press Tribune | The Honorable David Ferdinand, Chairman, Canyon County Board of Commissioners, 1115 Albany Street, Caldwell, ID 83605 | April 30, 2009 | 160208
Kansas: | Sedgwick | Unincorporated areas of Sedgwick County (08-07-1331P) | April 20, 2009, April 27, 2009, Wichita Eagle | The Honorable Kelly Parks, Chairman, Sedgwick County Board of Commissioners, County Courthouse, 525 North Main Street, Wichita, KS 67203 | August 25, 2009 | 200321
Sedgwick | City of Valley Center (08-07-1331P) | April 20, 2009; April 27, 2009; Wichita Eagle | The Honorable Michael D. McNown, Mayor, City of Valley Center, P.O. Box 188, Valley Center, KS 67147 | August 25, 2009 | 200327
Michigan: Macomb | Township of Shelby (09-05-0484P) | June 21, 2009; June 28, 2009; The Source | The Honorable Richard Stathakis, Supervisor, Shelby Township, 52700 Van Dyke Avenue, Shelby Township, MI 48316 | October 19, 2009 | 260126
Nebraska: Lincoln | City of North Platte (09-07-1206P) | June 25, 2009; July 2, 2009; North Platte Telegraph | The Honorable Marc Kaschke, Mayor, City of North Platte, 211 West 3rd Street, North Platte, NE 69101 | June 15, 2009 | 310143
Ohio: Lucas | City of Toledo (09-05-0642P) | June 3, 2009; June 10, 2009; Toledo Blade | The Honorable Carleton S. Finkbeiner, Mayor, City of Toledo, 1 Government Center, 640 Jackson Street, Suite 2200, Toledo, OH 43604 | May 21, 2009 | 395373
Tennessee: Wilson | City of Mt. Juliet (09-04-1406P) | June 19, 2009; June 26, 2009; Lebanon Democrat | The Honorable Linda Elam, Mayor, City of Mount Juliet, 2425 North Mount Juliet Road, Mount Juliet, TN 37122 | June 10, 2009 | 470290
Texas: | Bexar | City of San Antonio (09-06-0261P) | June 10, 2009; June 17, 2009; San Antonio Express News | The Honorable Phil Hardberger, Mayor, City of San Antonio, P.O. Box 839966, San Antonio, TX 78283 | October 15, 2009 | 480045
Cherokee | City of Jacksonville (09-06-0483P) | June 9, 2009; June 16, 2009; Jacksonville Daily Progress | The Honorable Robert N. Haberle, Mayor, City of Jacksonville, P.O. Box 1390, Jacksonville, TX 75766 | October 14, 2009 | 480123
Tarrant | City of Fort Worth (09-06-1123P) | April 3, 2009, April 10, 2009, Fort Worth Star Telegram | The Honorable Michael J. Moncrief, Mayor, City of Fort Worth, 1000 Throckmorton Street, Fort Worth, TX 76102 | March 25, 2009 | 480596

(Catalog of Federal Domestic Assistance No. 97.022, “Flood Insurance.”)

Deborah S. Ingram,
Acting Deputy Assistant Administrator for Mitigation, Mitigation Directorate, Department of Homeland Security, Federal Emergency Management Agency.

[FR Doc. E9-25860 Filed 10-26-09; 8:45 am]

BILLING CODE 9110-12-P